DEPARTMENT OF COMMERCE

International Trade Administration

[A-552-803]

Uncovered Innerspring Units From the Socialist Republic of Vietnam: Final Results of the Antidumping Duty Administrative Review; 2018-2019

AGENCY: Enforcement and Compliance, International Trade Administration, Department of Commerce.

SUMMARY: The Department of Commerce (Commerce) has completed the administrative review of the antidumping duty order on uncovered innerspring units (innersprings) from the Socialist Republic of Vietnam (Vietnam) covering the period of review (POR) December 1, 2018 through November 30, 2019. We continue to find that Angkor Spring Co., Ltd. (Angkor Spring) did not demonstrate eligibility for a separate rate; therefore, it is part of the Vietnam-wide entity.

DATES: Applicable January 4, 2021.

FOR FURTHER INFORMATION CONTACT: Brendan Quinn, AD/CVD Operations, Office III, Enforcement and Compliance, International Trade Administration, U.S. Department of Commerce, 1401 Constitution Ave. NW, Washington, DC 20230; telephone: (202) 482-5848.

SUPPLEMENTARY INFORMATION:

Background

On July 1, 2020, Commerce published the Preliminary Results of this review and gave interested parties an opportunity to comment.¹ We received no comments. These final results cover one company for which an administrative review was requested and not rescinded: Angkor Spring.² This review was conducted in accordance with section 751(a)(1) of the Tariff Act of 1930, as amended (the Act).³

¹ See Uncovered Innerspring Units from the Socialist Republic of Vietnam: Preliminary Results of the Administrative Review; 2018-2019, 85 FR 39524 (July 1, 2020) (Preliminary Results).

² Id.

³ On July 21, 2020, Commerce tolled all deadlines in administrative reviews by an additional 60 days. The deadline for the final results of this review is now December 28, 2020. See Memorandum, “Tolling of Deadlines for Antidumping and Countervailing Duty Administrative Reviews,” dated July 21, 2020.

Scope of the Order

The merchandise subject to this order is uncovered innerspring units composed of a series of individual metal springs joined together in sizes corresponding to the sizes of adult mattresses (e.g., twin, twin long, full, full long, queen, California king and king) and units used in small constructions, such as crib and youth mattresses. All uncovered innerspring units are included in the scope regardless of width and length. Including within this definition are innersprings typically ranging from 30.5 inches to 76 inches in width and 68 inches to 84 inches in length. Innerspring for crib mattresses typically range from 25 inches to 27 inches in width and 50 inches to 52 inches in length.

Uncovered innerspring units are suitable for use as the innerspring component in the manufacture of innerspring mattresses, including mattresses that incorporate a foam encasement around the innerspring.

Pocketed and non-pocketed innerspring units are included in this definition. Non-pocketed innersprings are typically joined together with helical wire and border rods. Non-pocketed innersprings are included in this definition regardless of whether they have border rods attached to the perimeter of the innerspring. Pocketed innersprings are individual coils covered by a “pocket” or “sock” of a nonwoven synthetic material or woven material and then glued together in a linear fashion.

Uncovered innersprings are classified under subheading 9404.29.9010 and have also been classified under subheadings 9404.10.0000, 9404.29.9005, 9404.29.9011, 7326.20.0070, 7326.20.0090, 7320.20.5010, 7320.90.5010, or 7326.20.0071 of the Harmonized Tariff Schedule of the United States (HTSUS).⁴ The HTSUS subheadings are provided for convenience and customs purposes only; the written description of the scope of the order is dispositive.

⁴ Based on a recommendation by CBP, on September 15, 2017, Commerce added HTS 7326.20.0090 to the scope. See Memorandum, “Request from Customs and Border Protection to Update the ACE AD/CVD Case Reference File,” dated September 15, 2017 (Barcode 3622582-01).

Final Results of Review

Commerce preliminarily determined that the company subject to this review did not demonstrate eligibility for separate rate status and, thus, Commerce found it to be part of the Vietnam-wide entity.⁵ As noted above, Commerce received no comments concerning the Preliminary Results of this review. We find that there is no reason to modify our analysis. Accordingly, no decision memorandum accompanies this Federal Register notice. For further details regarding the issues addressed in this proceeding, see the Preliminary Results.⁶

⁵ See Preliminary Results.

⁶ Id.

In these final results of review, we continue to treat the sole exporter subject to this review as part of the Vietnam-wide entity.⁷ The Vietnam-wide rate is 116.31 percent.

⁷ In the Preliminary Results, we found the sole exporter subject to this review to be part of the Vietnam-wide entity, as it failed to submit a separate rate application and/or a separate rate certification to establish its eligibility for separate rate status.

Vietnam-Wide Entity

Commerce's policy regarding the conditional review of the Vietnam-wide entity applies to this administrative review.⁸ Under this policy, the Vietnam-wide entity will not be under review unless a party specifically requests, or Commerce self-initiates, a review of the entity. Because no party requested a review of the Vietnam-wide entity, and Commerce did not self-initiate a review, the entity is not under review and the entity's rate is not subject to change (i.e., 116.31 percent).

⁸ See Antidumping Proceedings: Announcement of Change in Department Practice for Respondent Selection in Antidumping Duty Proceedings and Conditional Review of the Nonmarket Economy Entity in NME Antidumping Duty Proceedings, 78 FR 65963 (November 4, 2013).

Assessment Rates

Commerce has determined, and CBP shall assess, antidumping duties on all appropriate entries in this review, in accordance with section 751(a)(2)(C) of the Act and 19 CFR 351.212(b)(1). We intend to issue assessment instructions directly to CBP 15 days after publication in the Federal Register or these final results of this administrative review.

Cash Deposit Requirements

The following cash deposit requirements will be effective upon publication of the final results of this administrative review for all shipments of subject merchandise entered, or withdrawn from warehouse, for consumption on or after the publication date, as provided for by section 751(a)(2)(C) of the Act: (1) For previously investigated or reviewed Vietnamese and non-Vietnamese exporters not under review in this segment of the proceeding, but who have separate rates, the cash deposit rate will continue to be the exporter-specific rate published for the most recent period; (2) for all Vietnamese exporters of subject merchandise that have not been found to be entitled to a separate rate, the cash deposit rate will be the Vietnam-wide entity rate (i.e., 116.31 percent); and (3) for all non-Vietnamese exporters of subject merchandise which have not received their own rate, the cash deposit rate will be the rate applicable to the Vietnamese exporter that supplied that non-Vietnamese exporter. These deposit requirements, when imposed, shall remain in effect until further notice.

Reimbursement of Duties

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

We are issuing and publishing this notice in accordance with section 751(a)(1) and 777(i)(1) of the Act, and 19 CFR 351.213(h).

Dated: December 28, 2020.
Jeffrey I. Kessler,
Assistant Secretary for Enforcement and Compliance.

[FR Doc. 2020-29110 Filed 12-31-20; 8:45 am]

BILLING CODE 3510-DS-P